DEPARTMENT OF INTERIOR

National Park Service

Boundary Revision: Chesapeake and Ohio Canal National Historical Park

AGENCY: National Park Service, Interior.

ACTION: Notice of boundary revision.

SUMMARY: Notice is hereby given that the National Park Service is revising the boundary of the Chesapeake and Ohio Canal National Historical Park to include one additional tract of land.

FOR FURTHER INFORMATION CONTACT: Judy L. Brumback, Chief, Acquisition Division, National Park Service, ATLAFO, PO Box 908, Martinsburg, WV 25402, (304) 263-4943.

SUPPLEMENTARY INFORMATION: Pub. L. 91-664, enacted January 8, 1971 authorizes the acquisition of certain lands for the Chesapeake and Ohio Canal National Historical Park. Section 7 (c) (ii) of the Land and Water Conservation Fund Act, as amended by Pub. L. 104-333, authorizes minor boundary revisions of areas within the National Park System. In accordance with the statutes, such boundary revisions may be made, when necessary, after advising the appropriate Congressional Committees and following publication in the Federal Register.

In order to properly interpret and preserve the historic character of the Chesapeake and Ohio Canal National Historical Park, it is necessary to revise the existing boundary to include one additional tract of land comprising approximately 2.91 acres.

Notice is hereby given that the exterior boundary of the Chesapeake and Ohio Canal National Historical Park is hereby revised to include the following tract of land:

Tract P76-1, Chesapeake and Ohio Canal National Historical Park, is all of the same land acquired by Barbara Ellen Embly from Barbara E. Roher by deed dated July 19, 2001, recorded in Deed Book 1677, Page 591, in the Land Records of Washington County, State of Maryland.

Tract 76-130, Chesapeake and Ohio Canal National Historical Park, is a part of the same land acquired by the United States of America (NPS) from Charles Harold Snyder, a.k.a. C. Harold Snyder by deed dated September 5, 1974, recorded in Liber 585, folio 802 in the Land Records of Washington County, State of Maryland.

Subject to existing easements for public roads and highways, public utilities, railroads and pipelines.

This tracts of land is depicted on Segment Map 76 and are identified as Tracts P76-1 and 76-130. The map is on file and available for inspection in the office of the National Park Service, Appalachian Trail Land Acquisition Field Office, 1314 Edwin Miller Boulevard, PO Box 908, Martinsburg, West Virginia 25402-0908.

Dated: July 22, 2002.
Terry R. Carlstrom,
Regional Director.

[FR Doc. 03-992 Filed 1-15-03; 8:45 am]

BILLING CODE 4310-70-P